DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held September 2 and 3, 2008.

ADDRESSES: The September 2 meeting will be at the Missouri Breaks Interpretive Center, 701 7th Street, in Fort Benton, Montana. This meeting will begin at 1 p.m. with a 30-minute public comment period. This meeting will adjourn at 3:30 p.m. The September 3 meeting will be at the Hampton Inn, 2301 14th Street SW., in Great Falls, Montana. This meeting will begin at 8 a.m. with a 30-minute public comment period. This meeting is scheduled to adjourn at 3 p.m.

FOR FURTHER INFORMATON CONTACT: Gary L. “Stan” Benes, Lewistown Field Manager, Lewistown Field Office, P.O. Box 1160, Lewistown, Montana 59457, 406-538-1900.

SUPPLEMENTARY INFORMATION: This 15-member council advises the Secretary of the Interior on a variety of management issues associated with public land management in Montana. During these meetings the council will participate in/discuss/act upon:

A field trip through the Missouri Breaks Interpretive Center;

A Missouri River recreation use update;

A Malta Resource Management Plan (RMP) briefing;

Field manager updates;

Discussions about the alternatives for the Malta RMP;

A briefing about U.S. Forest Service fee proposals; and

Administrative details (next meeting agenda, location, etc.)

All RAC meetings are open to the public. The public may present written comments to the RAC. Each formal RAC meeting will also have time allocated for hearing public comments. Depending on the number of persons wishing to comment and time available, the time for individual oral comments may be limited.

Dated: August 1, 2008.
Gary L. “Stan” Benes,
Lewistown Field Manager.

[FR Doc. E8-18226 Filed 8-6-08; 8:45 am]

BILLING CODE 4310-$$-P